DEPARTMENT OF ENERGY

Federal Energy Regulatory Commission

[Project No. 2788-022]

Goodyear Lake Hydro, L.L.C; Notice of Effectiveness of Withdrawal of Application for Amendment of License

On October 2, 2023, Goodyear Lake Hydro, L.L.C (licensee) filed an application for a non-capacity amendment for the Colliersville Hydroelectric Project No. 2788.¹ On June 11, 2025, the licensee filed a notice of withdrawal of the amendment application. The project is located on the Susquehanna River, in the Town of Milford, Otsego County, New York and does not occupy federal lands.

¹ Goodyear Lake Hydro, L.L.C, 168 FERC ¶ 62,034 (2019).

No motion in opposition to the notice of withdrawal has been filed, and the Commission has taken no action to disallow the withdrawal. Pursuant to Rule 216(b) of the Commission's Rules of Practice and Procedure,² the withdrawal of the application became effective on June 26, 2025, and this proceeding is hereby terminated.

² 18 CFR 385.216(b) (2024).

Dated: July 1, 2025.
Carlos D. Clay,
Deputy Secretary.

[FR Doc. 2025-12548 Filed 7-3-25; 8:45 am]

BILLING CODE 6717-01-P